DEPARTMENT OF HEALTH AND HUMAN SERVICES

Health Resources and Services Administration

Agency Information Collection Activities: Proposed Collection: Public Comment Request; Information Collection Request Title: National Survey of Organ Donation Attitudes and Practices, OMB No. 0915-0290—Revision

AGENCY: Health Resources and Services Administration (HRSA), Department of Health and Human Services.

ACTION: Notice.

In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 18, 2024.

ADDRESSES: Submit your comments to paperwork@hrsa.gov or mail the HRSA Information Collection Clearance Officer, Room 14N39, 5600 Fishers Lane, Rockville, Maryland, 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: National Survey of Organ Donation Attitudes and Practices (NSODAP) OMB No. 0915-0290—Revision with changes.

Abstract: The overall purpose of this study is to conduct an independent multi-mode (web and telephone) survey of public opinion regarding various issues related to organ donation. The survey will measure public opinion on issues such as willingness to become an organ donor, financial incentives for donation, living donation, impediments to donation, and level of public knowledge about donation. Previous NSODAPs were conducted during 1993, 2005, 2012, and 2019. Similar to the 2019 survey, the goal is to complete 10,000 interviews with adults (18 years of age or older) nationwide. Specifically, this will include 1,000 equal-probability of selection method computer-assisted telephone interviewing (CATI) interviews, 1,000 ethnic oversamples CATI interviews, and a supplemental web panel of 8,000 respondents. The final sample will include 1,000 interviews each with Black/African Americans, Asians, Hispanics, and Native Americans, and a statistically sufficient sample for meaningful comparisons across demographic levels of age group, education, and income groups. A total sample of 10,000 is necessary to achieve sufficiently large subgroups for statistical analysis across demographic groups.

Need and Proposed Use of the Information: The Division of Transplantation, within the Health Systems Bureau of HRSA at the Department of Health and Human Services, is the primary federal entity responsible for oversight of the solid organ and blood stem cell transplant systems in the United States and for initiatives to increase organ donor registration and donation. Sponsorship of a national survey on the American public's donation attitudes and practices is one of the services that the Division of Transplantation provides for the larger donation community, consistent with its legal authority to establish a public education and awareness program (section 377A of the Public Health Service Act, 42 U.S.C. 274f-1).

Patients in need of organ transplantation in the United States face a longstanding critical shortage of organs. Approximately 103,000 Americans were on the waiting list for transplantation by the end of 2022, but only 42,000 transplants were performed, only meeting two-fifths of the national need. While this represents an increase in the number of transplants performed in 2021, the organ shortage remains in the United States. Understanding public attitudes about organ donation and how the attitudes change over time is critical to addressing organ shortage through public awareness and education efforts.

The information from this survey will facilitate appropriate tailoring and targeting of donation outreach messages and strategies and provide an overall assessment of the impact of previous outreach messages and strategies. The data will also inform the development of policies related to organ donation and transplantation.

Likely Respondents: A nationally representative sample of adults over the age of 18 with a higher number of responses from populations of interest such as racial-ethnic minorities, including African American, Asian, Native American, and Hispanic respondents, as well as respondents of all age groups and education levels.

Burden Statement: The modes of data collection are web surveys and CATI interviews and include both landline and cell phones. Respondent burden is minimized by having automatic data entry either electronically by the respondent answering the online survey or by a trained CATI interviewer for a telephone survey that includes no additional requirements for respondents. The survey will capture only the minimum necessary information for analysis and will take only about 22 minutes of the respondent's time for the CATI survey and 16 minutes for the web survey. The questions are the same in both the CATI and web surveys, but prior research experience by the contractor has found web surveys take 25 percent less time to complete than the same survey conducted via phone, because respondents can read and click faster than a phone interviewer can read survey questions.

Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
The National Survey of Organ Donation Attitudes and Practices (NSODAP)—Telephone (English and Spanish versions) | 2,000 | 1 | 2,000 | 0.37 | 740
The National Survey of Organ Donation Attitudes and Practices (NSODAP)—Web (English and Spanish versions) | 8,000 | 1 | 8,000 | 0.27 | 2,160
Total | 10,000 |  | 10,000 |  | 2,900

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-00819 Filed 1-17-24; 8:45 am]

BILLING CODE 4165-15-P